DEPARTMENT OF HEALTH AND HUMAN SERVICES

Office of Public Health and Science; Opportunity for Cosponsorship of the 3rd Annual HealthierUS Fitness Festival

AGENCY: Department of Health and Human Services, Office of the Secretary, Office of Public Health and Science, Office of the President's Council on Physical Fitness and Sports.

ACTION: Notice.

SUMMARY: The Office of the President's Council on Physical Fitness and Sports (PCPFS) announces the opportunity for both Federal and non-Federal public and private sector entities to cosponsor a fitness festival depicting activities to help all Americans get moving for health and fitness in celebration of May, National Physical Fitness and Sports Month. Potential cosponsors must have a demonstrated interest in physical activity/fitness and/or sports and be willing to participate substantively in the cosponsored activity.

DATES: To receive consideration, a request to participate as a cosponsor must be received by the close of business on April 21, 2006. Requests will meet the deadline if they are either (1) received on or before the deadline date; or (2) postmarked on or before the deadline date.

ADDRESSES: Notifications of interest in a cosponsorship should be sent to Christine Spain, Director of Research, Planning and Special Projects, Office of the President's Council on Physical Fitness and Sports, Hubert H. Humphrey Building, Room 738-H, 200 Independence Avenue, SW., Washington, DC 20201; Ph: (202) 690-5148, Fax: (202) 690-5211. Notifications may also be submitted by electronic mail to cspain@osophs.dhhs.gov.

FOR FURTHER INFORMATION CONTACT: Christine Spain, Director of Research, Planning and Special Projects, Office of the President's Council on Physical Fitness and Sports, Hubert H. Humphrey Building, Room 738-H, 200 Independence Avenue, SW., Washington, DC 20201; Ph: (202) 690-5148, Fax: (202) 690-5211, E-mail: cspain@osophs.dhhs.gov.

SUPPLEMENTARY INFORMATION:

Background

The PCPFS was established by the President of the United States and operates under Executive Order No. 13265, continued by Executive Order 13385, in accordance with the Federal Advisory Committee Act. Its purpose is to provide advice and recommendations to the President through the Secretary of HHS regarding actions to develop and coordinate a national program for physical activity/fitness and sports and, in part, inform the general public of the importance of exercise and the link between regular physical activity and good health.

The Office of the PCPFS serves as a catalyst to promote the development and implementation of physical activity/fitness and sports programs for all Americans. The Office of the PCPFS has a long and productive history of working with public and private sponsors to bring opportunities to participate in activities at the grassroots level. Cosponsorship of this activity will help to further the promotion of physical activity/fitness and sports by the Office of the PCPFS. This activity will be carried out by the Office of the PCPFS under its authority contained in Title XVII of the Public Health Service Act.

The purpose of the 3rd annual HealthierUS Fitness Festival is to motivate individuals, of all ages and abilities, to begin and continue an active lifestyle leading to enhanced physical fitness by providing access to actual demonstrations and sound information on diverse organizations and activities. Over one thousand individuals participated in this event on June 16, 2004; and 2,000 on May 2, 2005. The program will take place in Washington, DC on Saturday, May 6, 2006 from 8 a.m. to 12:30 p.m. and will include ongoing interactive sports and fitness demonstrations. Health and fitness experts from a myriad of organizations will be on hand to share tips as well as health and fitness information. No registration fees will be charged for any participants. All cosponsors agree not to sell any educational materials/equipment pertaining to the event. There are no federal funds available for this event. Participation may be limited depending on the number of proposals received and the space available.

Requirements of Cosponsorship

The Office of the PCPFS is seeking a cosponsor(s) to partner in ways that accord with its particular circumstances. For example, an entity might offer to cosponsor the following proposed program activities with the Office of PCPFS:

(1) Participate in the development of the concept, planning of physical activity/fitness/sports demonstrations, and designation of professional organizations and experts in those specific activities;

(2) Participate in the review and approval of all materials produced to educate the public and promote the event;

(3) Participate in the review, development, and approval of all materials, signage, press releases, etc. that mention the cosponsorship;

(4) Participate in the coordination of logistical concerns; e.g., U.S. Park Police, bonds, insurance, etc.

No discrete portion of the event may be sponsored independently.

Availability of Funds

There are no Federal funds available for this cosponsorship. All cosponsors agree to not use the event as a vehicle to sell or promote products or services. Any incidental promotional materials cannot imply that the PCPFS, Office of the PCPFS, or HHS endorses any products or services.

Eligibility for Cosponsorship

To be eligible, a requester must: (1) Have a demonstrated interest and understanding of physical activity/fitness and/or sports; (2) participate substantively in the cosponsored activity (not just provide funding or logistical support); (3) have an organizational or corporate mission that is not inconsistent with the public health and safety mission of the Department; and (4) agree to sign a cosponsorship agreement with the Office of the PCPFS which will set forth the details of the cosponsored activity.

Evaluation Criteria

After engaging in exploratory discussions with potential cosponsors that respond to this notice, the cosponsor(s) will be selected by the Office of the PCPFS using the following evaluation criteria:

(1) Requester's qualifications and capability to fulfill cosponsorship responsibilities;

(2) Requester's creativity for enhancing the medium for program messages; and

(3) Requester's potential for reaching underserved/special populations.

Dated: March 31, 2006.
Melissa Johnson,
Executive Director, President's Council on Physical Fitness and Sports, Department of Health and Human Services.

[FR Doc. E6-4963 Filed 4-5-06; 8:45 am]

BILLING CODE 4150-35-P